DEPARTMENT OF COMMERCE

National Oceanic and Atmospheric Administration

50 CFR Part 648

[Docket No. 120201086-2418-02]

RIN 0648-XC236

Fisheries of the Northeastern United States; Bluefish Fishery; Commercial Quota Harvested for the Commonwealth of Massachusetts

AGENCY: National Marine Fisheries Service (NMFS), National Oceanic and Atmospheric Administration (NOAA), Commerce.

ACTION: Temporary rule; closure.

SUMMARY: NMFS announces that the 2012 bluefish commercial quota allocated to the Commonwealth of Massachusetts has been harvested. Vessels issued a commercial Federal fisheries permit for the bluefish fishery may not land bluefish in Massachusetts for the remainder of calendar year 2012, unless additional quota becomes available through a transfer from another state. Regulations governing the bluefish fishery require publication of this notification to advise Massachusetts that the quota has been harvested and to advise vessel permit holders and dealer permit holders that no Federal commercial quota is available for landing bluefish in Massachusetts.

DATES: Effective at 0001 hr local time, September 19, 2012, through 2400 hr local time December 31, 2012.

FOR FURTHER INFORMATION CONTACT: Carly Bari, (978) 281-9224, or Carly.Bari@noaa.gov.

SUPPLEMENTARY INFORMATION: Regulations governing the bluefish fishery are found at 50 CFR part 648. The regulations require annual specification of a commercial quota that is apportioned on a percentage basis among the coastal states from Florida through Maine. The process to set the annual commercial quota and the percent allocated to each state is described in § 648.162.

The initial total commercial quota for bluefish for the 2012 fishing year is 10,317,362 lb (4,679,878 kg) (77 FR 25100, April 27, 2012). The percent allocated to vessels landing bluefish in Massachusetts is 6.7167 percent, resulting in a commercial quota of 692,986 lb (314,333 kg) after deduction of research set-aside.

The Administrator, Northeast Region, NMFS (Regional Administrator), monitors the state commercial quotas and determines when a state's commercial quota has been harvested. NMFS is required to publish notification in the Federal Register advising and notifying commercial vessels and dealer permit holders that, effective upon a specific date, the state's commercial quota has been harvested and no commercial quota is available for landing bluefish in that state. The Regional Administrator has determined, based upon dealer reports and other available information, that Massachusetts has harvested its quota for 2012.

Section 648.4(b) provides that Federal permit holders agree, as a condition of the permit, not to land bluefish in any state that the Regional Administrator has determined no longer has commercial quota available. Therefore, effective 0001 hours, September 19, 2012, landings of bluefish in Massachusetts by vessels holding Federal commercial bluefish permits are prohibited for the remainder of the 2012 calendar year, unless additional quota becomes available through a transfer and is announced in the Federal Register. Effective 0001 hours, September 19, 2012, federally permitted dealers are also notified that they may not purchase bluefish from federally permitted vessels that land in Massachusetts for the remainder of the calendar year, or until additional quota becomes available through a transfer from another state.

Classification

This action is required by 50 CFR part 648 and is exempt from review under Executive Order 12866.

Authority: 16 U.S.C. 1801 et seq.

Dated: September 14, 2012.
Lindsay Fullenkamp,
Acting Deputy Director, Office of Sustainable Fisheries, National Marine Fisheries Service.

[FR Doc. 2012-23142 Filed 9-14-12; 4:15 pm]

BILLING CODE 3510-22-P